NATIONAL ARCHIVES AND RECORDS ADMINISTRATION

[NARA-2016-027]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by May 26, 2016. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

Fax: 301-837-3698.

You must cite the control number, which appears in parentheses after the name of the agency which submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0161-2015-0003, 1 item, 1 temporary item). Commodity Credit Corporation records consisting of master files of an electronic information system used to support the grain inventory and miscellaneous commodity inventory.

2. Department of Agriculture, Farm Service Agency (DAA-0145-2015-0012, 1 item, 1 temporary item). Master files of an electronic information system used to track, process, collect, and report cash receipts.

3. Department of Defense, Defense Information Systems Agency (DAA-0371-2014-0006, 3 items, 3 temporary items). Records related to awards and assignments for agency personnel.

4. Department of Defense, Defense Information Systems Agency (DAA-0371-2014-0008, 3 items, 3 temporary items). Records relating to the test and evaluation of electronic information systems.

5. Department of Defense, Defense Logistics Agency (DAA-0361-2015-0005, 9 items, 8 temporary items.) Administrative records common to all offices including reference materials, meeting and visit records, delegations of authority, and routine correspondence. Proposed for permanent retention are high-level correspondence and command oversight files.

6. Department of Defense, Defense Threat Reduction Agency (DAA-0374-2014-0006, 1 item, 1 temporary item). Records relating to policy letters on administrative operations and services.

7. Department of Defense, Defense Threat Reduction Agency (DAA-0374-2014-0037, 1 item, 1 temporary item). Records related to quality control of system components under agency oversight.

8. Department of Defense, Defense Threat Reduction Agency (DAA-0374-2014-0040, 1 item, 1 temporary item). Records related to the preparation and revision of supply standards.

9. Department of Defense, Defense Threat Reduction Agency (DAA-0374-2014-0041, 1 item, 1 temporary item). Records related to agency oversight of specific Department of Defense standards including standardization actions, indexing, plans, and related records.

10. Department of Energy, Agency-wide (DAA-0434-2015-0013, 2 items, 2 temporary items). Records related to foreign ownership and eligibility determinations of potential contractors.

11. Department of Health and Human Services, Administration for Children and Families (DAA-0292-2016-0006, 12 items, 9 temporary items). Records related to Federal grant programs, including penalty determinations and resolutions, regulation files, briefing materials, and court case files. Proposed for permanent retention are final data reports, policy files, and publications.

12. Department of Health and Human Services, Administration for Children and Families (DAA-0292-2016-0009, 2 items, 1 temporary item). Office-level delegations of authority records. Proposed for permanent retention are delegations of authority for senior management staff.

13. Department of Homeland Security, United States Citizenship and Immigration Services (DAA-0566-2016-0004, 8 items, 8 temporary items). Applications, petitions, and requests for a re-entry permit, refugee travel document, or advance parole travel document.

14. Department of Homeland Security, United States Citizenship and Immigration Services (DAA-0566-2016-0011, 10 items, 10 temporary items). Applications, petitions, and supporting materials used by organizations to apply for authorization to issue certificates to health care workers.

15. Department of Justice, Federal Bureau of Investigation (DAA-0065-2015-0001, 2 items, 1 temporary item). Records used to prepare briefings for agency executives. Proposed for permanent retention are records related to National Security Council meeting participation.

16. Department of Justice, Federal Bureau of Investigation (DAA-0065-2015-0006, 1 item, 1 temporary item). Records related to FOIA request processing and administration that include general administrative files, staff training, a sample of 500 FOIA case files, and records related to a 1978 GAO audit, and a case litigated before the Supreme Court.

17. Federal Communications Commission, International Bureau (DAA-0173-2015-0009, 2 items, 2 temporary items). Records include annual reports submitted by service providers for international services and statistics derived from those reports.

18. Federal Communications Commission, Wireline Competition Bureau (DAA-0173-2016-0009, 1 item, 1 temporary item). Records include official tariffs and associated documents submitted by local exchange carriers.

19. National Archives and Records Administration, Government-wide (DAA-GRS-2016-0006, 1 item, 1 temporary item). A revision to the General Records Schedule for general ethics program records.

20. Peace Corps, Office of Strategic Partnerships (DAA-0490-2016-0008, 1 item, 1 temporary item). Records of the Office of Gifts and Grants Management related to private donations used to fund volunteer projects.

Laurence Brewer,
Director, Records Management Operations.

[FR Doc. 2016-09544 Filed 4-25-16; 8:45 am]

BILLING CODE 7515-01-P